DEPARTMENT OF COMMERCE

International Trade Administration

Notice of Renewal of the Civil Nuclear Trade Advisory Committee

AGENCY: International Trade Administration, Commerce.

ACTION: Notice of Renewal of the Civil Nuclear Trade Advisory Committee.

SUMMARY: The Department of Commerce (the Department) International Trade Administration is giving notice that the charter for the Civil Nuclear Trade Advisory Committee (CINTAC) has been renewed as of September 16, 2012.

FOR FURTHER INFORMATION CONTACT: David Kincaid, Office of Energy and Environmental Industries, Room 4053, U.S. Department of Commerce, 14th Street and Constitution Avenue NW., Washington, DC 20230; phone 202-482-1706 or email David.Kincaid@trade.gov.

SUPPLEMENTARY INFORMATION: The Department of Commerce, as of September 16, 2012, has renewed the charter for the CINTAC in accordance with the Federal Advisory Committee Act, as amended, 5 U.S.C. App. 2, for another two-year term. The CINTAC functions solely as an advisory committee advising the Secretary of Commerce regarding the development and administration of programs to expand U.S. exports of civil nuclear goods and services for use by the Department of Commerce in its role as a member of the Civil Nuclear Trade Working Group of the Trade Promotion Coordinating Committee.

CINTAC was chartered in 2008 and is now in its third two-year iteration. The third charter of the committee will be comprised of up to forty executives representing companies and associations from across the United States' civil nuclear supply chain.

Dated: October 31, 2012.
Edward A. O'Malley,
Director, Office of Energy and Environmental Industries.

[FR Doc. 2012-26999 Filed 11-5-12; 8:45 am]

BILLING CODE 3510-DR-P